DEPARTMENT OF COMMERCE

National Oceanic and Atmospheric Administration

RIN 0648-XO45

Marine Mammals; File No. 14241, Correction

AGENCY: National Marine Fisheries Service (NMFS), National Oceanic and Atmospheric Administration (NOAA), Commerce.

ACTION: Notice; receipt of application for permit amendment; correction.

SUMMARY: Notice is hereby given that Dr. Peter Tyack, Woods Hole Oceanographic Institution, Woods Hole, MA has applied for an amendment to Permit No. 14241-02 to conduct research on marine mammals. This document makes a correction to a previously published document (December 2, 2011) in which the DATES section was inadvertently omitted.

DATES: Written, telefaxed, or email comments must be received on or before January 3, 2012.

ADDRESSES: The application and related documents are available for review by selecting “Records Open for Public Comment” from the Features box on the Applications and Permits for Protected Species home page, https://apps.nmfs.noaa.gov, and then selecting File No. 14241 from the list of available applications.

These documents are also available upon written request or by appointment in the following office(s):

Permits, Conservation and Education Division, Office of Protected Resources, NMFS, 1315 East-West Highway, Room 13705, Silver Spring, MD 20910; phone (301) 427-8401; fax (301) 713-0376;

Northeast Region, NMFS, 55 Great Republic Drive, Gloucester, MA 01930; phone (978) 281-9300; fax (978) 281-9333; and

Southeast Region, NMFS, 263 13th Avenue South, Saint Petersburg, Florida 33701; phone (727) 824-5312; fax (727) 824-5309.

FOR FURTHER INFORMATION CONTACT: Tammy Adams or Carrie Hubard, (301) 713-2289.

SUPPLEMENTARY INFORMATION:

Need for Correction

On December 2, 2011 (76 FR 75524) notice of receipt of an application to amend Permit No. 14241-02 was inadvertently published without specifying the date on which comments are due. Applications are available for comment for 30 days from publication of the notice of receipt. The comment deadline is specified in the DATES section of this correction notice.

Dated: December 2, 2011.
Tammy C. Adams,
Acting Chief, Permits, Conservation and Education Division, Office of Protected Resources, National Marine Fisheries Service.

[FR Doc. 2011-31435 Filed 12-6-11; 8:45 am]

BILLING CODE 3510-22-P